DEPARTMENT OF HOMELAND SECURITY

Federal Emergency Management Agency

44 CFR Part 67

[Docket No. FEMA-B-7775]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 6, 2008.

ADDRESSES: The corresponding preliminary Flood Insurance Rate Map (FIRM) for the proposed BFEs for each community are available for inspection at the community's map repository. The respective addresses are listed in the table below.

You may submit comments, identified by Docket No. FEMA-B-7775, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
City of Virginia Beach, Virginia
Virginia | City of Virginia Beach | Atlantic Ocean | Approximately 550 feet east of Sandpiper Lane approximately 1.5 miles south of Little Island District Park | +4 | +10
|  |  | Approximately 150 feet east of Sandpiper Lane approximately 1 mile south of Little Island District Park | +4 | +10
|  |  | Approximately 300 feet north of Porpoise Lane between Sandfiddler Road and Sandpiper Road | +9 | +10
|  |  | Approximately 1200 feet south of Porpoise Lane between Sandfiddler Road and Sandpiper Road | +9 | +10
|  |  | Numerous locations along the Atlantic shoreline (extending inland up to 1 mile) from Cape Henry to the southern-most corporate limit of VA Beach. AO zones with depths ranging 1-2 feet & X unshaded zones are now AE or VE zones with BFEs ranging 4-11 feet | None | +11
Virginia | City of Virginia Beach | Chesapeake Bay | Immediately south of Oceanview Avenue between Fentress Avenue and Seaview Avenue | None | +6.8
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Virginia Beach
Maps are available for inspection at 2405 Courthouse Drive, Building 2, Third Floor, Virginia Beach, VA 23456.

Flooding source(s) | Location of referenced elevation ** | * Elevation in feet (NGVD) + Elevation in feet (NAVD) # Depth in feet above ground: Effective | * Elevation in feet (NGVD) + Elevation in feet (NAVD) # Depth in feet above ground: Modified | Communities affected
Mohave County, Arizona, and Incorporated Areas
Beaver Dam Wash | 1 mile downstream of Old U.S. 91 | None | +1800 | Unincorporated Areas of Mohave County.
| 2.3 miles upstream of Old U.S. 91 | None | +1926
Big Montana Wash | Approximately 1,325 feet downstream of Black Mountain Road | None | #1 | City of Bullhead City.
| Approximately 425 feet downstream of Ramar Road | None | +534
| Approximately 100 feet downstream of State Route 95 | None | +603
| Approximately 1,325 feet downstream of Black Mountain Road | None | +767
| Approximately 380 feet upstream of Tesota Road | None | +876
Big Montana Wash Overflow | Approximately at confluence with Big Montana Wash | None | #1 | City of Bullhead City.
Bojorquez Wash | Approximately 150 feet upstream of Country Club Road | None | #1 | City of Bullhead City.
| Approximately 120 feet upstream of Country Club Road | None | +504
Cerbat Wash | Approximately 700 feet downstream of Ramada Road | None | +2478 | Unincorporated Areas of Mohave County.
| Approximately 250 feet upstream of Shipp Drive | None | +2765
Cerbat Wash Tributary 1A | Approximately 1,400 feet downstream of Unkar Drive | None | +2563 | Unincorporated Areas of Mohave County.
| Approximately 200 feet downstream of Bolsa Drive | None | +2630
Chaparral Wash | Approximately at upstream side of Newberry Road | None | #1 | City of Bullhead City.
| Approximately 1,200 feet upstream of Acacia Road | None | #2
| Approximately 300 feet downstream of Country Club Road | None | +504
| Approximately 400 feet downstream of Country Club Road | None | +504
| Approximately 400 feet downstream of State Route 95 | None | +548
| Approximately 1,200 feet upstream of Acacia Way | None | +726
| Approximately 0.68 mile upstream of Acacia Way | None | +778
Chaparral Wash Tributary 1 | Approximately 0.48 mile downstream of Acacia Way | None | #1 | City of Bullhead City.
| Approximately 0.75 mile downstream of Acacia Way | None | #1
| Approximately 1,355 feet downstream of Acacia Way | None | #2
| Approximately 0.60 mile downstream of Acacia Way | None | #2
| Approximately 1,300 feet downstream of Acacia Way | None | +670
| Approximately 650 feet upstream of Acacia Way | None | +717
Chaparral Wash Tributary 2 | Approximately 830 feet downstream of Havasupai Road | None | #2 | City of Bullhead City.
| Approximately 830 feet downstream of Havasupai Road | None | +726
| Approximately 50 feet downstream of Havasupai Road | None | +749
Chemehuevi Wash | Approximately 1,170 feet downstream of Sweetwater Avenue | None | +669 | City of Lake Havasu, Unincorporated Areas of Mohave County.
| Approximately 0.80 mile upstream of Chicksaw Drive | None | +1374
Colorado River | Approximately at the upstream side of Interstate 40 | None | +465 | City of Bullhead City, Unincorporated Areas of Mohave County.
| Approximately 250 feet downstream of Davis Dam | None | +514
Davis Wash | Approximately 700 feet upstream of La Puerta Road | None | #1 | City of Bullhead City.
| Approximately 0.53 mile downstream of La Puerta Road | None | #1
| Approximately 0.40 mile downstream of La Puerta Road | None | #2
| Approximately 100 feet downstream of State Route 95 | None | +522
| Approximately 100 feet downstream of Pegasus Ranch Road | None | +967
| Approximately 100 feet upstream of Pegasus Ranch Road | None | +987
Davis Wash Tributary 1 | Approximately 550 feet upstream of Pegasus Ranch Road | None | #1 | City of Bullhead City.
Davis Wash Tributary 1 of Tributary 1 | Approximately 550 feet upstream of Pegasus Ranch Road | None | #1 | City of Bullhead City.
Davis Wash Tributary 2 | Approximately 550 feet upstream of Pegasus Ranch Road | None | #1 | City of Bullhead City.
Davis Wash Tributary 3 | Approximately 530 feet upstream of Pegasus Ranch Road | None | #1 | City of Bullhead City.
Davis Wash Tributary 4 | Approximately 500 feet upstream of Pegasus Ranch Road | None | #1 | City of Bullhead City.
| Approximately 50 feet downstream of Pegasus Ranch Road | None | #1
Davis Wash Tributary 5 | Approximately 1,100 feet upstream of McCormick Blvd | None | #1 | City of Bullhead City.
Dump Wash | Approximately 100 feet upstream of Bullhead Parkway | None | #1 | City of Bullhead City.
| Approximately 300 feet upstream of State Route 95 | None | #1
| Approximately 1,850 feet downstream of Bullhead Parkway | None | #1
| Approximately 100 feet downstream of Bullhead Parkway | None | #2
| Approximately upstream side of State Route 95 | None | #2
| Approximately 0.40 mile upstream of Lost Hills Road | None | #2
El Dorado Wash | Approximately 700 feet downstream of London Bridge Road | None | +462 | City of Lake Havasu.
| Approximately 1,320 feet upstream of Jamaica Blvd | None | +1276
Fort Mohave Wash | Approximately 1,250 feet upstream of State Route 95 | None | #1 | City of Bullhead City, Unincorporated Areas of Mohave County.
| Approximately 0.57 mile upstream of Arroyo Vista Drive | None | #2
| Approximately 150 feet upstream of confluence with Soto Wash | None | #2
Fox Wash | Approximately 0.64 mile upstream of State Route 95 | None | #1 | City of Bullhead City.
| Approximately 1,200 feet downstream of Tera Loma Road | None | #1
| Approximately 1,730 feet downstream of Bullhead Parkway | None | #2
| Approximately 1,450 feet downstream of State Route 95 | None | #2
| Approximately 700 feet downstream of State Route 95 | None | #3
| Approximately 0.63 mile downstream of Tera Loma Road | None | +491
| Approximately 600 feet downstream of State Route 95 | None | +511
| Approximately 0.64 mile upstream of State Route 95 | None | +642
| Approximately 1,700 feet downstream of Bullhead Parkway | None | +802
| Approximately 1,950 feet upstream of Bullhead Parkway | None | +903
Green Wash | Approximately 250 feet upstream of confluence with Williams Wash | None | +703 | City of Bullhead City.
| Approximately 1.42 miles upstream of confluence with Green Wash Tributary 2 | None | +1465
Green Wash Tributary 1 | Approximately 70 feet upstream of confluence with Green Wash | None | +967 | City of Bullhead City.
| Approximately 2.1 miles upstream of confluence with Green Wash | None | +1450
Green Wash Tributary 2 | Approximately 0.41 mile upstream of confluence with Green Wash | None | #1 | City of Bullhead City.
Havasupai Wash at Bullhead City | Approximately 870 feet upstream of Camino del Rio Road | None | #1 | City of Bullhead City.
| Approximately 870 feet upstream of Camino del Rio Road | None | +504
Havasupai Wash at Bullhead City Tributary 1 | Approximately 0.5 mile upstream of Miracle Mile Road | None | #1 | City of Bullhead City.
| Approximately 0.50 mile upstream of Miracle Mile Road | None | +651
| Approximately 0.82 mile upstream of Miracle Mile Road | None | +691
Havasupai Wash at Lake Havasu City | Approximately 1,060 feet downstream of London Bridge Road | None | +452 | City of Lake Havasu.
| Approximately 800 feet upstream of Paso de Oro Drive | None | +1506
Highland Wash | Approximately 300 feet downstream of State Route 95 | None | +518 | City of Bullhead City.
| Approximately 325 feet upstream of Bullhead Parkway | None | +693
Indian Peak Wash | Approximately 360 feet downstream of State Route 95 | None | +543 | City of Lake Havasu, Unincorporated Areas of Mohave County.
| Approximately 470 feet upstream of Black Hill Drive | None | +1439
Mockingbird Wash | Approximately 875 feet downstream of Osborn Drive | None | +754 | City of Lake Havasu.
| Approximately 0.78 mile upstream of McCulloch Blvd S | None | +1258
Montana Wash | Approximately 0.72 mile upstream of Rolling Hills Road | None | #1 | City of Bullhead City.
| Approximately 0.42 mile upstream of Bullhead Parkway | None | #2
| Approximately 120 feet downstream of Riverfront Road | None | +505
| Approximately 1,900 feet upstream of Goldrush Road | None | +827
Montana Wash Overflow | Approximately 50 feet downstream of Arcadia Road | None | #1 | City of Bullhead City.
| Approximately upstream side of Arriba Road | None | #1
| Approximately 800 feet upstream of Jacarta Road | None | #2
Montana Wash Tributary 1 | Approximately 150 feet upstream of confluence with Montana Wash | None | +1126 | City of Bullhead City.
| Approximately 250 feet upstream of Unnamed Road | None | +1198
Neptune Wash | Approximately 550 feet downstream of London Bridge Road | None | +455 | City of Lake Havasu.
| Approximately 0.47 mile upstream of Avalon Avenue | None | +832
Old Trails Wash | Approximately 750 feet downstream of Third Street | None | +3299 | City of Kingman.
| Approximately 1,200 feet upstream of U.S. 93/U.S. 66 | None | +3428
Old Trails Wash Tributary | Approximately 790 feet downstream of Center Street | None | +3361 | City of Kingman.
| Approximately 0.5 mile upstream of Buchanan Street | None | +3410
Richardo Wash | Approximately 1,400 feet downstream of Terra Loma Road | None | #1 | City of Bullhead City.
| Approximately 50 feet downstream of State Route 95 | None | #1
| Approximately 100 feet upstream of State Route 95 | None | #2
| Approximately 1,100 feet upstream of Terra Loma Road | None | #2
| Approximately 800 feet upstream of confluence with Fox Wash | None | +491
Sacramento Wash Tributary 6 | Approximately 250 feet upstream of Bolsa Drive | None | +2635 | Unincorporated Areas of Mohave County.
| Approximately 300 feet upstream of Shipp Drive | None | +2762
Sacramento Wash Tributary 6C | Approximately 0.5 mile downstream of Redwall Drive | None | +2668 | Unincorporated Areas of Mohave County.
| Approximately 1,025 feet upstream of Chino Drive | None | +2830
Sacramento Wash Tributary 6D | Approximately 650 feet downstream of State Route 68 | None | +2789 | Unincorporated Areas of Mohave County.
| Approximately 290 feet upstream of Chino Drive | None | +2819
Secret Pass Wash | Approximately downstream side of Pass Canyon Road | None | #3 | Unincorporated Areas of Mohave County, City of Bullhead City.
| Approximately 1.18 miles upstream of Bullhead Parkway | None | #4
| Approximately 250 feet downstream of State Route 95 | None | +515
| Approximately 50 feet downstream of State Route 95 | None | +527
| Approximately 1.23 miles upstream of Bullhead Parkway | None | +1073
| Approximately 2 miles upstream of Bullhead Parkway | None | +1188
Shadow Canyon Wash | Approximately 870 feet downstream of Corwin Road | None | +563 | City of Bullhead City.
| Approximately 320 feet upstream of Mountain View Road | None | +668
Shadow Canyon Wash Overflow | Approximately upstream side of Central Park Avenue | None | +540 | City of Bullhead City.
| Approximately 450 feet upstream of Central Avenue | None | +550
Short Creek | Approximately 1.6 miles downstream of State Route 389 | None | +4857 | City of Colorado City, Unincorporated Areas of Mohave County
| Approximately 50 feet upstream of State Route 389 | None | +4933
Short Creek Tributary 1 | Approximately 320 feet downstream of Township Avenue | None | +4939 | City of Colorado City.
| Approximately 1,000 feet upstream of Arizona Avenue | None | +5027
Silver Creek Wash | Approximately 1.4 miles upstream of Bullhead Parkway | None | #3 | City of Bullhead City.
| Approximately 0.56 miles upstream of State Route 95 | None | #3
| Approximately 1,250 feet upstream of State Route 95 | None | #3
| Approximately 1.04 miles upstream of State Route 95 | None | #3
| Approximately 500 feet downstream of Bullhead Parkway | None | #3
| Approximately 0.62 miles upstream of Bullhead Parkway | None | #4
| Approximately 500 feet upstream of Plata Caleta Road | None | #4
Silver Creek Wash Tributary 1 | Approximately 0.47 miles upstream of Bullhead Parkway | None | #1 | City of Bullhead City.
| Approximately 0.38 mile upstream of confluence with Silver Creek Wash | None | #3
| Approximately 200 feet upstream of confluence with Silver Creek Wash | None | #4
Silver Creek Wash Tributary 2 | Approximately 0.83 mile upstream of confluence with Silver Creek Wash | None | #2 | City of Bullhead City.
| Approximately 1,800 feet upstream of confluence with Silver Creek Wash | None | #3
| Approximately 1,100 feet upstream of confluence with Silver Creek Wash | None | #4
Soto Wash | Approximately 1,800 feet upstream of State Route 95 | None | #1 | City of Bullhead City.
| Approximately 1,800 feet upstream of Arroyo Vista Road | None | #2
| Approximately 100 feet downstream of State Route 95 | None | #2
| Approximately 1,300 feet upstream of Mohave Community College Road | None | +515
| Approximately 0.36 mile upstream of Arroyo Vista Road | None | +758
| Approximately 0.65 mile upstream of Arroyo Vista Drive | None | +803
Thirteen Mile Wash | Approximately 75 feet upstream of Limit of Detailed Study | None | +2478 | Unincorporated Areas of Mohave County.
| Approximately 600 feet upstream of Shipp Drive | None | +2803
Thirteen Mile Wash Overflow 1 | Approximately 620 feet downstream of Unkar Drive | None | +2575 | Unincorporated Areas of Mohave County.
| Approximately 1,100 feet upstream of Bolsa Drive | None | +2658
Thirteen Mile Wash Overflow 2 | Approximately 770 feet downstream of Chuar Drive | None | +2599 | Unincorporated Areas of Mohave County.
| Approximately 1,260 feet upstream of Bolsa Drive | None | +2655
Thirteen Mile Wash Overflow 3 | Approximately 1,660 feet downstream of Adobe Road | None | +2757 | Unincorporated Areas of Mohave County.
| Approximately 400 feet upstream of Shipp Drive | None | +2793
Unnamed Wash 10 | Approximately upstream side of Airway Avenue | None | +3450 | City of Kingman.
| Approximately 700 feet upstream of Interstate 40 | None | +3510
Unnamed Wash 10 Overflow | Approximately 200 feet upstream of confluence with Unnamed Wash 6 | None | +3491 | City of Kingman.
| Approximately 795 feet downstream of confluence with Unnamed Wash 6 | None | +3499
Unnamed Wash 13 | Approximately 50 feet downstream of Ashley Street | None | #1 | Unincorporated Areas of Mohave County.
| Approximately 50 feet upstream of confluence with Unnamed Wash East Golf Course | None | #2
| Approximately 300 feet upstream of Lippan Blvd | None | #3
Unnamed Wash 13 East Golf Course | At Approximately Clubhouse Road | None | #1 | Unincorporated Areas of Mohave County.
Unnamed Wash 13 Overflow | Approximately 700 feet upstream of Lippan Blvd | None | #1 | Unincorporated Areas of Mohave County, Fort Mojave Indian Tribe.
| Approximately 600 feet upstream of Lippan Blvd | None | #2
Unnamed Wash 13 Tributary 1 | Approximately 150 feet downstream of Ashley Street | None | #1 | Unincorporated Areas of Mohave County.
Unnamed Wash 13 Tributary 1 of Tributary 1 | Approximately downstream side of Ashley Street | None | #1 | Unincorporated Areas of Mohave County.
Unnamed Wash 13 Tributary 1 of Tributary 2 | Approximately upstream side of Ashley Street | None | #1 | Unincorporated Areas of Mohave County.
Unnamed Wash 13 Tributary 1 of Tributary 2 of Tributary 1 | Approximately 200 feet downstream of Ashley Street | None | #1 | Unincorporated Areas of Mohave County.
Unnamed Wash 13 Tributary 2 | Approximately 200 feet downstream of Ashley Street | None | #1 | Unincorporated Areas of Mohave County.
Unnamed Wash 13 Tributary 2 of Tributary 1 | Approximately 350 feet downstream of Ashley Street | None | #1 | Unincorporated Areas of Mohave County.
Unnamed Wash 13 West Golf Course | Approximately 50 feet downstream of Desert Lakes Drive | None | #1 | Unincorporated Areas of Mohave County.
Unnamed Wash 14 | Approximately 750 feet downstream of Ashley Street | None | #1 | Unincorporated Areas of Mohave County, Fort Mojave Indian Tribe.
| Approximately 50 feet downstream of Ashley Street | None | #2
| Approximately 50 feet upstream of Mountain View Road | None | +553
| Approximately 475 feet upstream of Antelope Drive | None | +676
Unnamed Wash 14 Tributary 1 | Approximately 100 feet downstream of Ashley Street | None | #1 | Unincorporated Areas of Mohave County.
Unnamed Wash 15 | Approximately 350 feet upstream of Boundary Cone Road | None | #1 | Unincorporated Areas of Mohave County.
| Approximately 400 feet downstream of Ashley Street | None | #2
| Approximately 400 feet upstream of Boundary Cone Road | None | +524
| Approximately 450 feet upstream of Bison Avenue | None | +652
Unnamed Wash 15 Tributary 1 | Approximately 450 feet downstream of Ashley Street | None | #1 | Unincorporated Areas of Mohave County.
| Approximately 900 feet upstream of Bison Avenue | None | #2
Unnamed Wash 6 | Approximately 280 feet downstream of Andy Devine Road | None | #1 | City of Kingman.
| Approximately 50 feet upstream of Andy Devine Avenue | None | +3446
| Approximately 50 feet upstream of Interstate 40 | None | +3491
Unnamed Wash 6 Overflow | Approximately 800 feet downstream of Railroad Tracks | None | +3459 | City of Kingman.
| Approximately 1,070 feet upstream of Railroad Street | None | +3487
Unnamed Wash 7 (With Berm) | Approximately 50 feet upstream of Andy Devine Road | None | +3502 | City of Kingman.
| Approximately 300 feet upstream of Hulapai Mountain Road | None | +3530
Unnamed Wash 7 (Without Berm) | Approximately 250 feet downstream of Railroad Tracks | None | #1 | City of Kingman.
Unnamed Wash 9 | Approximately 100 feet downstream of Lead Street | None | #1 | City of Kingman.
| Approximately 800 feet upstream of Lead Street | None | #2
Virgin River | Approximately 2.7 miles downstream of Scenic Blvd | None | +1598 | Unincorporated Areas of Mohave County.
| Approximately 1.0 mile upstream of Interstate 15 | None | +1817
Wash A | Approximately 1750 feet downstream of Redwall Drive | None | +2678 | Unincorporated Areas of Mohave County.
| Approximately 150 feet upstream of Shipp Drive | None | +2771
Wash B | Approximately 0.45 mile downstream of Bolsa Drive | None | +2606 | Unincorporated Areas of Mohave County.
| Approximately 200 feet upstream of Shipp Drive | None | +2783
Wash B Tributary 1A | Approximately 0.07 mile downstream of Redwall Drive | None | +2662 | Unincorporated Areas of Mohave County.
| Approximately 1,760 feet upstream of U.S. 68 | None | +2861
Wash B Tributary 1B | Approximately 900 feet downstream of Shipp Drive | None | +2763 | Unincorporated Areas of Mohave County.
| Approximately 200 feet upstream of Shipp Drive | None | +2777
Wash B Tributary 1C | Approximately 250 feet upstream of confluence with Wash B Tributary 1A | None | +2753 | Unincorporated Areas of Mohave County
| Approximately 150 feet upstream of Shipp Drive | None | +2784
Wash C | Approximately 1,700 feet downstream of Shinarump Drive | None | +2493 | Unincorporated Areas of Mohave County
| Approximately 200 feet upstream of Shipp Drive | None | +2829
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bullhead City
Maps are available for inspection at 1255 Marina Blvd, Bullhead City, AZ 86442.
City of Colorado City
Maps are available for inspection at 25 S. Central, Colorado City, AZ 86021.
City of Kingman
Maps are available for inspection at 310 N. 4th Street, Kingman, AZ 86401.
City of Lake Havasu
Maps are available for inspection at 2330 McCulloch Blvd North, Lake Havasu City, AZ 86403.
Fort Mojave Indian Tribe
Maps are available for inspection at 500 Merriman Avenue, Needles, CA 92363.
Unincorporated Areas of Mohave County
Maps are available for inspection at 700 W. Beale Street, Kingman, AZ 86402.
Washington County, Oregon, and Incorporated Areas
Dairy Creek | Approximately 85 feet downstream of P&W Railroad | *147 | *149 | Unincorporated Areas of Washington County, City of Hillsboro.
| Approximately 125 feet upstream of NW Susbauer Road | *152 | *155
West Fork Dairy Creek | Approximately .8 miles upstream of NW Wilson River Highway | None | *191 | City of Banks.
| Approximately .72 miles downstream of NW Banks Road | None | *192
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Banks
Maps are available for inspection at 100 S. Main Street, Banks, OR 97106.
City of Hillsboro
Maps are available for inspection at 150 East Main Street, Hillsboro, OR 97123.
Unincorporated Areas of Washington County
Maps are available for inspection at 155 North First Ave., Ste. 300, Hillsboro, OR 97124.

(Catalog of Federal Domestic Assistance No. 97.022, “Flood Insurance.”)

Dated: April 21, 2008.
David I. Maurstad,
Federal Insurance Administrator of the National Flood Insurance Program, Department of Homeland Security, Federal Emergency Management Agency.

[FR Doc. E8-10335 Filed 5-7-08; 8:45 am]

BILLING CODE 9110-12-P